DEPARTMENT OF LABOR

Employment and Training Administration

[TA-W-61,960]

Solutia, Inc., Sauget, IL; Notice of Negative Determination Regarding Application for Reconsideration

By application dated October 16, 2007, a worker requested administrative reconsideration of the Department's negative determination regarding eligibility for workers and former workers of Solutia, Inc., Sauget, Illinois (subject firm) to apply for Trade Adjustment Assistance (TAA) and Alternative Trade Adjustment Assistance (ATAA). The negative determination was issued on September 18, 2007, and the Department's Notice of negative determination was published in the Federal Register on October 3, 2007 (72 FR 56385). The subject workers produce chemicals (phosphorous pentasulfide, santoflexes, and ACL). Workers are not separately identifiable by product line.

The TAA/ATAA petition was denied because the subject firm did not separate or threaten to separate a significant number or proportion of workers as required by section 222 of the Trade Act of 1974. Significant number or proportion of the workers in a firm or appropriate subdivision means at least three workers in a workforce of fewer than 50 workers, five percent of the workers in a workforce of over 50 workers, or at least 50 workers.

In the request for reconsideration, the worker asserted that the Department's determination was erroneous (“My congressman Jerry Costello (D-IL) received confirmation from the U.S. Department of Labor for all workers of Solutia, Inc., Sauget, IL who become separated from employment to receive additional unemployment benefits, job training, and other services”). The request included news articles about Solutia's foreign operations (“Solutia starts building new plant in China,” September 1, 2005; “Solutia Begins Construction of New Saflex (R) PVB Plant in China,” September 1, 2005; “Solutia unit expands manufacturing in China,” September 20, 2005; “Solutia Expands Therminol Manufacturing in China,” September 20, 2005; “Solutia completes buyout of Mexican plant, plans expansion,” March 2, 2006; “Solutia boosts manufacturing capacity,” June 21, 2006; “Solutia starts Belgian plant expansion,” March 26, 2007; “Solutia Expands Presence in China by Opening New Saflex Manufacturing Plant in Suzhou,” September 21, 2007; and “Solutia opens Saflex plant in China,” September 21, 2007) and a document titled “Krummrich Products and Applications” that identifies several chemicals and their applications.

The worker also submitted an article (“Costello Announces Benefits for Solutia, Inc. Workers,” released June 4, 2004 by Congressman Jerry F. Costello, 12th District, Illinois) that explains the assertion in the request for reconsideration.

Pursuant to 29 CFR 90.18(c), administrative reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA certification alluded to in the request for reconsideration is Solutia, Inc., Sauget, Illinois (TA-W-54,902; covering subject firm workers separated on or after May 11, 2003 through May 28, 2006). Because the certification for TA-W-54,902 has expired, facts which were the basis for the certification applicable to workers covered by that petition cannot be a basis for certification for workers covered by this petition.

After careful review of the request for reconsideration, the support documentation, and previously submitted materials, the Department determines that there is no new information that supports a finding that section 222 of the Trade Act of 1974 was satisfied and that no mistake or misinterpretation of the facts or of the law with regards to the number or proportion of workers separated from the subject firm during the relevant period.

Conclusion

After review of the application and investigative findings, I conclude that there has been no error or misinterpretation of the law or of the facts which would justify reconsideration of the Department of Labor's prior decision. Accordingly, the application is denied.

Signed at Washington, DC this 1st day of November 2007.
Elliott S. Kushner,
Certifying Officer, Division of Trade Adjustment Assistance.

[FR Doc. E7-22060 Filed 11-9-07; 8:45 am]

BILLING CODE 4510-FN-P